DEPARTMENT OF THE TREASURY

Office of the Comptroller of the Currency

12 CFR Part 5

[Docket No. 01-21]

RIN 1557-AB92

Operating Subsidiaries of Federal Branches and Agencies

AGENCY: Office of the Comptroller of the Currency (OCC), Treasury.

ACTION: Final rule; correction.

SUMMARY: This document makes corrections to typographical errors in the final rule that the OCC published in the Federal Register on September 26, 2001 (66 FR 49093). The final rule provides that a Federal branch or agency may establish, acquire, or maintain an operating subsidiary in generally the same manner that a national bank may acquire or establish an operating subsidiary.

EFFECTIVE DATE: October 26, 2001.

FOR FURTHER INFORMATION CONTACT: Martha Clarke, Counsel, Legislative and Regulatory Activities Division, 202-874-5090.

SUPPLEMENTARY INFORMATION: In rule FR Doc. 01-24005 published on September 26, 2001, (66 FR 49093) make the following corrections:

1. On page 49097, in the second column, in amendatory instruction 1, the authority citation for part 5 is corrected to read as follows:

Authority: 12 U.S.C. 1 et seq., 24a, 24(Seventh), 93a, and 3101 et seq.

§ 5.34 [Corrected]

2. On page 49097, in the third column, in §5.34(d)(2), in the fourth line, remove the word “by”.

3. On page 49097, in the third column, in § 5.34(d)(3)(ii), remove the word “AGENCY:” and add, in its place, “agency”.

Dated: November 26, 2001.
Julie L. Williams,
First Senior Deputy Comptroller and Chief Counsel, Comptroller of the Currency.

[FR Doc. 01-29898 Filed 12-3-01; 8:45 am]

BILLING CODE 4810-33-P